DEPARTMENT OF COMMERCE

International Trade Administration

User Satisfaction Surveys

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506 (c)(2)(A)).

DATES: Written comments must be submitted on or before February 26, 2002.

ADDRESSES: Direct all written comments to Madeleine Clayton, Departmental Paperwork Clearance Officer, (202) 482-3129, Department of Commerce, Room 6086, 14th & Constitution Avenue, NW., Washington, DC 20230 (or via the Internet at Mclayton@doc.gov.).

FOR FURTHER INFORMATION CONTACT: Request for additional information or copies of the information collection instrument and instructions should be directed to: Joseph English, U.S. & Foreign Commercial Service, Export Promotion Service, Room 2116, 14th & Constitution Avenue, NW, Washington, DC 20230. Phone number: (202) 482-3334, and fax number (202) 482-5398.

SUPPLEMENTARY INFORMATION:

I. Abstract

ITA provides numerous export promotion programs to help U.S. businesses. These programs include information products, services, and trade events. To accomplish its mission effectively, ITA needs ongoing feedback on its programs. These information collection items allow ITA to solicit clients opinions about the use of ITA products, services, and trade events. The information is used for program improvement, strategic planning, allocation of resources, and performance measures.

The surveys are part of ITAs effort to implement objectives of the National Performance Review (NPR) and Government Performance and Results Act (GPRA). Responses to the surveys will meet the needs of ITA performance measures based on NPR and GPRA guidelines. These performance measures will serve as a basis for justifying and allocating human and financial resources.

Survey responses will acquaint ITA managers with firms perceptions and assessments of export-assistance products and services. Also, the surveys will enable ITA to track the performance of overseas posts. This information is critical for improving the programs.

Survey responses are used to assess client satisfaction, determine priorities, and identify areas where service levels and benefits differ from client expectations. Clients benefit because the information is used to improve services provided to the public. Without this information, ITA is unable to systematically determine client perceptions about the quality and benefit of its export-promotion programs.

II. Method of Data Collection

ITA faxes, mails, emails or telephones surveys to clients and is developing electronic delivery and collection methods as well.

III. Data

OMB Number: 0625-0217.

Form Number: ITA-4108P-A1, ITA-4110P, etc.

Type of Review: Revision-regular submission.

Affected Public: ITA clients that purchased products and services.

Estimated Number of Respondents: 20,780.

Estimated Time Per Response: Range from 05-60 minutes.

Estimated Total Annual Burden Hours: 3,298.

Estimated Total Annual Costs: The estimated annual cost for this collection is $197,880.00 ($115,430.00 for respondents and $ 82,450.00 for the federal government).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: December 20, 2001.
Madeleine Clayton,
Departmental Forms Clearance Officer, Office of the Chief Information Officer.

[FR Doc. 01-31845 Filed 12-27-01; 8:45 am]

BILLING CODE 3510-FP-P